DELAWARE RIVER BASIN COMMISSION

Notice of Public Hearing and Business Meeting November 10 and December 9, 2015

Correction

In notice document 2015-26837 appearing on pages 63973 through 63974 in the issue of Thursday, October 22, 2015 make the following correction:

1. Beginning page 63973, in the third column, in the final paragraph and continuing on page 63974 in the first paragraph, “The public business meeting on December 9, 2015 will begin at 1:30 p.m.” should read “The public business meeting on December 9, 2015 will begin at 10:30 a.m.”

In notice document C1-2015-26837 appearing on page 66524 in the issue of Thursday, October 29, 2015 make the following correction:

2. On page 66524, in the second column, in lines four through six, “The public hearing on November 10, 2015 will begin at 10:30 a.m.” should read “The public hearing on November 10, 2015 will begin at 1:30 p.m.”

[FR Doc. C2-2015-26837 Filed 11-12-15; 8:45 am]

BILLING CODE 1505-01-D